DEPARTMENT OF THE INTERIOR

Bureau of Land Management

[LLNMP02000 L51100000.GE0000.LVEMG11CG200]

Notice of Availability of the Draft Environmental Impact Statement for the Ochoa Mine Project in Lea County, New Mexico

AGENCY: Bureau of Land Management, Interior.

ACTION: Notice of availability.

SUMMARY: In accordance with the National Environmental Policy Act of 1969, as amended (NEPA), and the Federal Land Policy and Management Act of 1976, as amended, the Bureau of Land Management (BLM) has prepared a Draft Environmental Impact Statement (EIS) for the Ochoa Mine Project (Project) and by this notice is announcing the opening of the public comment period.

DATES: To ensure comments will be considered, the BLM must receive written comments on the Project Draft EIS within 45 days following the date the Environmental Protection Agency publishes its Notice of Availability in the Federal Register. The BLM will announce future meetings or hearings and any other public involvement activities at least 15 days in advance through public notices, media releases, and/or mailings.

ADDRESSES: You may submit comments related to the Project Draft EIS by any of the following methods:

• Web site: www.nm.blm.gov/cfo/ochoaMine/.

• Email: blm_nm_cfo_comments@blm.gov.

• Fax: 575-885-9264.

• Mail: BLM Carlsbad Field Office, Attention: Ochoa Mine EIS Project Manager, 620 E. Greene St., Carlsbad, NM 88220.

Copies of the Project Draft EIS are available in the Carlsbad Field Office at the above address.

FOR FURTHER INFORMATION CONTACT: Shiva Achet, Planning and Environmental Coordinator, Project Co-Lead, telephone 575-234-5924; address BLM Carlsbad Field Office, 620 East Greene Street, Carlsbad, NM 88220; email blm_nm_cfo_comments@blm.gov. Please contact Mr. Achet if you want to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Intercontinental Potash Corporation (ICP) is proposing to develop a new underground mine in southern Lea County, New Mexico, to extract polyhalite ore for the production of the sulfate of potash, a component of agricultural fertilizer. ICP holds BLM prospecting permits and has applied for preference right leases. These prospecting permits are located about 40 miles southeast of Carlsbad and 20 miles west of Jal, in Lea County, New Mexico. ICP has proposed a Mine Plan of Operations that includes an underground mine accessed by a shaft and a ramp, and processing facilities, including the ore process plant, dry stack tailings pile, evaporation ponds, water wells, pipelines, power lines, and a railroad load out facility. The polyhalite will be continuously mined using the conventional room and pillar retreat method. In order to mine in proximity to active oil and gas wells, ICP has elected to follow the rules and regulations of a Category IV gassy mine.

The Project area includes Federal, State, and private lands totaling 31,137 acres, of which 2,400 acres would be disturbed. The surface landownership consists of about 22 percent public lands managed by the BLM, 53 percent owned by the State of New Mexico, and 25 percent privately owned. About 55 percent of the minerals within the proposed mine area is owned by the Federal Government.

Processing would require pumping a maximum of 4,000 gallons per minute of groundwater from the Capitan Reef Aquifer.

The BLM initiated the NEPA process for the Project Draft EIS by publication of a Notice of Intent to prepare an EIS on January 3, 2012 (77 FR 130). The EIS will inform the BLM's decision whether to approve ICP's Ochoa Mine Plan of Operations and Closure Plan, requested rights-of-way, and preference right leases, and if so, under what terms and conditions. Public scoping meetings were conducted on January 23-24, 2012. Major issues identified for this project include oil and gas, water resources, land use, socioeconomic impacts, air quality, wildlife, livestock grazing, and health and safety.

Alternatives developed include the proposed action (Alternative A), which would include approval of ICP's Mine Plan of Operations, granting new rights-of-way, and approval of preference right leases to allow the mining and processing of polyhalite ore. In addition, three action alternatives were analyzed in the Draft EIS. Alternative B is identical to Alternative A except that the visual impacts of the tailing stockpile would be reduced. Alternative C is identical to Alternative A except that standards and guidance would be established for managing concurrent development of fluid minerals. Alternative D is similar to Alternative A, except that the location of the evaporation ponds and tailings stockpile would be at a different location. A no action alternative was also analyzed, in which the proposed mine plan of operations, rights-of-way, and preference right leases would be denied.

The Draft EIS addresses the issues and concerns raised during internal and external (public) scoping last year and analyzes the environmental effects of the Proposed Action, three action alternatives, and the No Action Alternative. Alternate tailings management, processing facilities siting, and co-development options are included in the analysis. The BLM has not yet chosen a preferred alternative for this Project and is seeking public comment. The final preferred alternative may combine aspects of the existing alternatives.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2, 43 CFR 1610.5.

Aden L. Seidlitz,
Associate State Director.

[FR Doc. 2013-19172 Filed 8-8-13; 8:45 am]

BILLING CODE 4310-FB-P